DEPARTMENT OF AGRICULTURE

Animal and Plant Health Inspection Service

[Docket No. APHIS-2024-0055]

Notice of Request for Extension of Approval of an Information Collection; Self-Certification Medical Statement

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations permitting applicants to self-certify certain medical statements when applying for positions with the Federal Government.

DATES: We will consider all comments that we receive on or before November 12, 2024.

ADDRESSES: You may submit comments by either of the following methods:

• Federal eRulemaking Portal: Go to www.regulations.gov. Enter APHIS-2024-0055 in the Search field. Select the Documents tab, then select the Comment button in the list of documents.

• Postal Mail/Commercial Delivery: Send your comment to Docket No. APHIS-2024-0055, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations related to the use of a self-certification medical statement, contact Mr. Jason Grams, Branch Chief, Human Resources Policy, Human Resources Division, MRPBS, APHIS, 250 Marquette Plaza, Suite 410, Minneapolis, MN 55401; (612) 336-3292; email: jason.c.grams@usda.gov. For information on the information collection process, contact Mr. Joseph Moxey, APHIS' Paperwork Reduction Act Coordinator; (301) 851-2533; email: joseph.moxey@usda.gov.

SUPPLEMENTARY INFORMATION:

Title: Self-Certification Medical Statement.

OMB Control Number: 0579-0196.

Type of Request: Extension of approval of an information collection.

Abstract: Marketing and Regulatory Programs (MRP) of the U.S. Department of Agriculture facilitate the domestic and international marketing of U.S. agricultural products and protect the health of domestic animal and plant resources. Resource management and administrative services, including human resources management, for MRP agencies are provided by the MRP Business Services (MRPBS) unit of the Animal and Plant Health Inspection Service (APHIS).

MRP agencies are authorized by 5 CFR part 339 and 29 CFR part 1630 to obtain medical information from applicants and employees for positions that have approved medical standards due to duties that are arduous or hazardous, or require a certain level of health status or fitness. These agencies have positions with duties that extend beyond sedentary and require specific medical standards and/or physical requirements to be performed successfully and safely. The medical qualifications standards for appointment to the covered positions listed in the MRP Medical Examination Requirements Charts are justified on the basis that the duties are arduous or hazardous and require a certain level of health status and fitness, and the nature of the positions involves a high degree of responsibility towards the public.

This information collection is necessary for making a preliminary determination regarding a candidate's physical fitness and ability to perform the duties of a covered position. MRP uses the Self-Certification Medical Statement for positions requiring verification of fitness and ability for duty. Applicants may also submit a request for waiver of standards and requirements. Inability to collect this information would adversely affect the MRP agencies' ability to make employment decisions and determinations regarding an applicant's physical fitness to safely and efficiently perform assigned duties.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.176 hours per response.

Respondents: Private citizens.

Estimated annual number of respondents: 175.

Estimated annual number of responses per respondent: 1.

Estimated annual number of responses: 176.

Estimated total annual burden on respondents: 31 hours. (Due to averaging, the total annual burden hours may not equal the product of the annual number of responses multiplied by the reporting burden per response.)

All responses to this notice will be summarized and included in the request for OMB approval. All comments will also become a matter of public record.

Done in Washington, DC, this 5th day of September 2024.
Michael Watson,
Administrator, Animal and Plant Health Inspection Service.

[FR Doc. 2024-20544 Filed 9-10-24; 8:45 am]

BILLING CODE 3410-34-P